DEPARTMENT OF HEALTH AND HUMAN SERVICES

Substance Abuse and Mental Health Services Administration

Revision of Final Fiscal Year (FY) 2006 State Allotment of Community Mental Health Services (CMHS) Block Grant (BG)

AGENCY: Substance Abuse and Mental Health Services Administration (SAMHSA).

ACTION: Public notice.

SUMMARY: SAMHSA has revised the final FY 2006 calculations for the CMHS BG 50 States and Washington, DC after it has been discerned that the July 1, 2003 population estimates used in the calculation involved multiple counting of persons who reported more than one race. This notice describes the background and rationale for revising the calculations and presents a revised set of State-specific final FY 2006 CMHS BG allotment figures, showing the differences in the two sets of calculations.

FOR FURTHER INFORMATION CONTACT: Joe Gfroerer, Office of Applied Studies/SAMHSA, 1 Choke Cherry Road, Room 7-1015, Rockville, MD 20857, (240) 276-1262.

Background

Under Public Law 102-321, the Secretary of the U.S. Department of Health and Human Services (DHHS), acting through the Director of SAMHSA's Center for Mental Health Services, determines the allotments for States and territories for the CMHS BG and disburses federal funds to eligible States and territories. Public Law 102-321 contains the eligibility criteria for receipt of funds under the CMHS BG, and provides the formulae and methods for determining State and territory allotments. The Office of Applied Studies (OAS) at SAMHSA is responsible for acquisition and compilation of required source data and the computation of BG allotment amounts for States and territories. The preliminary and final FY 2006 CMHS BG allotment calculations were performed in accordance with SAMHSA procedures established during 1995 that were documented in the Federal Register notice published on June 26, 1996. The law requires that the CMHS BG calculations use the most recent State-level data for resident population by age (18-24, 25-44, 45-64, and 65 or over) and for the cost-of-services index and the fiscal capacity index.

Rationale for Revising Final FY 2006 CMHS BG Calculations

SAMHSA used the July 1, 2003 population estimates file (SC-EST2003-race5.txt; released by the Census Bureau on September 30, 2004) that was available on the cut-off date of October 1, 2004 for both preliminary and final FY 2006 CMHS BG allotment calculations. The file included a 5-category, mutually-nonexclusive race variable that allowed multiple counting of persons who reported more than one race. Internal reviews have indicated that though calculations for determining State allotments were done correctly, the file (SC-EST2003-race6.csv; released by the Census Bureau on September 30, 2004) containing a 6-category, race6.csv; released by the Census Bureau on September 30, 2004) containing a 6-category, mutually-exclusive (i.e., no multiple counting) race variable would have been more appropriate for use in the calculations. An examination of these two data files has indicated that multiple counting of persons was particularly higher for Hawaii (26.3%), Alaska (5.0%), California (2.5%), Colorado (1.9%), Nevada (2.6%), Oklahoma (4.2%), Oregon (2.5%) and Washington (3.1%), compared to the national average (1.6%).

Revised Final FY 2006 CMHS Allotments

Taking into consideration both the multiple-counting problem with the population estimates source data used and the procedural requirement for using source data for the FY 2006 CMHS BG allotment determinations that were released on or before October 1, 2004, SAMHSA has revised the final FY 2006 CMHS BG allotments. Revised final State allotments for FY 2006 were determined by replacing the 5-category-race-based population estimates with the 6-category-race-based population estimates. A comparison of the revised final FY 2006 CMHS BG State allotments with current allotments is shown in the following Table. The attachment shows FY 2005 final allotments, current and revised FY 2006 CMHS BG allotments, and the difference in these allotments in dollars and percent. The revised allotments are lower for Alaska, California, Colorado, Hawaii, Montana, Nevada, New York, Oklahoma, Oregon, Washington, and the District of Columbia, while the revised allotments for all other States increased by small amounts. The allotments for all territories would remain unchanged with the revision, as would the SAMHSA administrative Set-Aside amount.

Dated: March 31, 2006.
Eric B. Broderick,
Acting Deputy Administrator, SAMHSA.

BILLING CODE 4160-01-M

[FR Doc. 06-3764 Filed 4-19-06; 8:45 am]

BILLING CODE 4160-01-C